INTER-AMERICAN FOUNDATION

Sunshine Act; Board Meeting

Time and Date: July 12, 2010; 2 p.m.-3:30 p.m.

Place: 901 N. Stuart Street, Tenth Floor, Arlington, Virginia 22203.

Status: Closed session as provided in 22 CFR 1004.4(f).

Matters To Be Considered: • Executive Session.

Portions To Be Closed to the Public: • Executive Session to discuss Candidates for Presidential Position—Closed session as provided in 22 CFR 1004.4(f).

Contact Person for More Information: Jennifer Hodges Reynolds, General Counsel, (703) 306-4301.

Dated: June 30, 2010.
Jennifer Hodges Reynolds,
General Counsel.

[FR Doc. 2010-16869 Filed 7-7-10; 4:15 pm]

BILLING CODE 7025-01-P